DEPARTMENT OF COMMERCE

National Telecommunications and Information Administration

Public Safety Spectrum Management Forum

AGENCY: National Telecommunications and Information Administration, U.S. Department of Commerce.

ACTION: Notice of public meeting.

SUMMARY: The U.S. Department of Commerce's National Telecommunications and Information Administration (NTIA) will host a two-day public safety spectrum management forum that is open to the public. Both days will include invited speakers and breakout discussion sessions designed to garner public comment on the four objectives of the President's Spectrum Policy Initiative as they relate to public safety. The first breakout session will focus on addressing the nation's critical spectrum requirements. The discussion for the second breakout session will concentrate on developing a modernized and improved spectrum management system for state and local public safety agencies. The topic for the third breakout session will be centered on incentives for more efficient and beneficial spectrum use. This session will cover such topics as defining efficiency, balancing efficiency with effectiveness, measuring methods of efficiency, and identifying policies to achieve efficient spectrum use. The fourth breakout session will focus on the development of new and expanded services and technologies that improve efficiency and streamline technology deployment. All sessions will feature participation from representatives of key public safety associations and government agencies.

DATES: The forum will be held from 7 a.m. to 5 p.m. on Tuesday and Wednesday, February 10-11, 2004.

ADDRESSES: The Public Safety Spectrum Management Forum will be held at the Omni Shoreham Hotel, 2500 Calvert Street, NW., Washington, DC 20008; telephone: (202) 234-0700. All events are open to the public. Parking is available on site for a fee. The hotel is located one-half block from the Woodley Park Metrorail stop on the Red line.

FOR FURTHER INFORMATION CONTACT: Rich Orsulak, NTIA Public Safety Division, at (202) 482-9139, or electronic mail: rorsulak@ntia.doc.gov. Please direct media inquiries to the Office of Public Affairs, NTIA, at (202) 482-7002.

SUPPLEMENTARY INFORMATION: This forum is one in a series of public meetings to support the President Bush's Spectrum Policy Initiative, which will result in recommendations to the Administration for improving spectrum management policies and procedures. On May 29, 2003, the President signed a Presidential Memorandum outlining the Administration's initiative for spectrum management reform. The President established the “Spectrum Policy Initiative” to promote the development and implementation of a U.S. spectrum policy for the 21st century. He directed the Secretary of Commerce to chair the initiative, which includes two courses of spectrum-related activity, one based on an interagency task force and the other on a series of public meetings. The Department of Commerce will develop recommendations for revising policies and procedures to promote more efficient and beneficial use of spectrum. NTIA will provide additional information about the forum in the near future on its home page at http://www.ntia.doc.gov.

Public Participation: The forum will be open to the public on a first-come, first-served basis. Space is limited. The public meeting is physically accessible to people with disabilities. Any member of the public wishing to attend and requiring special services, such as sign language interpretation or other ancillary aids, should contact Rich Orsulak at (202) 482-9139 or at rorsulak@ntia.doc.gov, at least three (3) days prior to the meeting.

Dated: January 7, 2004.
Kathy D. Smith,
Chief Counsel, National Telecommunications and Information Administration.

[FR Doc. 04-603 Filed 1-12-04; 8:45 am]

BILLING CODE 3510-60-P